DEPARTMENT OF EDUCATION

Deadline Dates for Reports and Other Records Associated With the Free Application for Federal Student Aid (FAFSA®), the Federal Pell Grant Program, the William D. Ford Federal Direct Loan Program, the Teacher Education Assistance for College and Higher Education Grant Program, and the Iraq and Afghanistan Service Grant Program for the 2016-2017 Award Year

AGENCY: Federal Student Aid, Department of Education.

ACTION: Notice.

Catalog Federal Domestic Assistance (CFDA) Numbers: 84.007 Federal Supplemental Educational Opportunity Grant (FSEOG) Program; 84.033 Federal Work Study (FWS) Program; 84.038 Federal Perkins Loan (Perkins Loan) Program; 84.063 Federal Pell Grant (Pell Grant) Program; 84.268 William D. Ford Federal Direct Loan (Direct Loan) Program; 84.379 Teacher Education Assistance for College and Higher Education (TEACH) Grant Program; 84.408 Iraq and Afghanistan Service Grant Program.

SUMMARY: The Secretary announces deadline dates for the receipt of documents and other information from applicants and institutions participating in certain Federal student aid programs authorized under title IV of the Higher Education Act of 1965, as amended (HEA), for the 2016-2017 award year. The Federal student aid programs covered by this deadline date notice are the Pell Grant, Direct Loan, TEACH Grant, and Iraq and Afghanistan Service Grant programs. The FSEOG, FWS, and Perkins Loan programs are only covered by this deadline date notice to the extent that a student receiving FSOEG, FWS, or Perkins Loan funds must submit a FAFSA, to the extent that the institution must receive the student's Institutional Student Information Record (ISIR) or Student Aid Report (SAR) for students requesting those funds, or to the extent that the institution must submit verification outcomes for students requesting those funds.

These programs, administered by the U.S. Department of Education (Department), provide financial assistance to students attending eligible postsecondary educational institutions to help them pay their educational costs.

DATES: Deadline and Submission Dates: See Tables A and B at the end of this notice.

Table A—Deadline Dates by Which a Student Must Submit the FAFSA, by Which the Institution Must Receive the Student's Institutional Student Information Record (ISIR) or Student Aid Report (SAR), and by Which the Institution Must Submit Verification Outcomes for Certain Students for the 2016-2017 Award Year

Table A provides information and deadline dates for receipt of the FAFSA, corrections to and signatures for the FAFSA, ISIRs, and SARs, and verification documents.

The deadline date for the receipt of a FAFSA by the Department's Central Processing System is June 30, 2017, regardless of the method that the applicant uses to submit the FAFSA. The deadline date for the receipt of a signature page for the FAFSA (if required), correction, notice of change of address or school, or request for a duplicate SAR is September 9, 2017.

For all Federal student aid programs, an ISIR or SAR for the student must be received by the institution no later than the student's last date of enrollment for the 2016-2017 award year or September 23, 2017, whichever is earlier. As a reminder, a FAFSA must be submitted for the dependent student for whom a parent is applying for a Direct PLUS Loan.

Verification documents must be received by the institution no later than 120 days after the student's last date of enrollment for the 2016-2017 award year or September 23, 2017, whichever is earlier.

For all Federal student aid programs except for (1) Direct PLUS Loans that will be made to parent borrowers, and (2) Direct Unsubsidized Loans that will be made to dependent students who have been determined by the institution, pursuant to section 479A(a) of the HEA, to be eligible for such a loan without providing parental information on the FAFSA, the ISIR or SAR must have an official expected family contribution (EFC) and must be received by the institution no later than the earlier of the student's last date of enrollment for the 2016-2017 award year or September 23, 2017.

For a student who is requesting aid through the Pell Grant, FSEOG, FWS, and Federal Perkins Loan programs or for a student requesting Direct Subsidized Loans, who does not meet the conditions for a late disbursement under 34 CFR 668.164(g), a valid ISIR or valid SAR must be received by the student's last date of enrollment for the 2016-2017 award year or September 23, 2017, whichever is earlier.

In accordance with 34 CFR 668.164(g)(4)(i), an institution may not make a late disbursement of title IV student assistance funds later than 180 days after the date of the institution's determination that the student was no longer enrolled. Table A provides that, to make a late disbursement of title IV student assistance funds, an institution must receive a valid ISIR or valid SAR no later than 180 days after its determination that the student was no longer enrolled, but not later than September 23, 2017.

Table B—Pell Grant, Iraq and Afghanistan Service Grant, Direct Loan, and TEACH Grant Programs' Deadline Dates for Disbursement Information by Institutions for the 2016-2017 Award Year or Processing Year

Table B provides the earliest and latest dates for institutions to submit Pell Grant, Iraq and Afghanistan Service Grant, Direct Loan, and TEACH Grant disbursement records to the Department's Common Origination and Disbursement (COD) System and deadline dates for such records if an institution requests and receives approval to submit such records after the established deadline.

An institution must submit Pell Grant, Iraq and Afghanistan Service Grant, Direct Loan, and TEACH Grant disbursement records to COD, as applicable, no later than 15 days after making the disbursement or becoming aware of the need to adjust a previously reported disbursement. In accordance with 34 CFR 668.164(a), title IV funds are disbursed on the date that the institution: (a) Credits those funds to a student's account in the institution's general ledger or any subledger of the general ledger; or (b) pays those funds to a student directly. Title IV funds are disbursed even if an institution uses its own funds in advance of receiving program funds from the Secretary.

An institution's failure to submit disbursement records within the required timeframe may result in the Secretary rejecting all or part of the reported disbursement. Such failure may also result in an audit or program review finding or the initiation of an adverse action, such as a fine or other penalty for such failure, in accordance with subpart G of the General Provisions regulations in 34 CFR part 668.

Other Sources for Detailed Information

We publish a detailed discussion of the Federal student aid application process in the 2016-2017 Federal Student Aid Handbook and in the 2016-2017 ISIR Guide.

Additional information on the institutional reporting requirements for the Pell Grant, Iraq and Afghanistan Service Grant, Direct Loan, and TEACH Grant programs is included in the 2016-2017 Common Origination and Disbursement (COD) Technical Reference.

You may access these publications by selecting the “iLibrary” link at the Information for Financial Aid Professionals Web site at: www.ifap.ed.gov.

Applicable Regulations: The following regulations apply:

(1) Student Assistance General Provisions, 34 CFR part 668.

(2) Federal Pell Grant Program, 34 CFR part 690.

(3) William D. Ford Direct Loan Program, 34 CFR part 685.

(4) Teacher Education Assistance for College and Higher Education Grant Program, 34 CFR part 686.

FOR FURTHER INFORMATION CONTACT: Ian Foss, U.S. Department of Education, Federal Student Aid, 830 First Street NE., Union Center Plaza, Room 113H2, Washington, DC 20202-5345. Telephone: (202) 377-3681 or by email: ian.foss@ed.gov.

If you use a telecommunications device for the deaf (TDD) or text telephone (TTY), call the Federal Relay Service, toll free, at 1-800-877-8339.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 1070a, 1070a-1, 1070b-1070b-4, 1070g, 1070h, 1087a-1087j, and 1087aa-1087ii; 42 U.S.C. 2751-2756b.

Dated: March 29, 2016.
James W. Runcie,
Chief Operating Officer, Federal Student Aid.

Table A—Deadline Dates by Which a Student Must Submit the FAFSA, by Which the Institution Must Receive the Student's Institutional Student Information Record (ISIR) or Student Aid Report (SAR), and by Which the Institution Must Submit Verification Outcomes for Certain Students for the 2016-2017 Award Year
Who submits? | What is submitted? | Where is it submitted? | What is the deadline date for receipt?
Student | FAFSA—“FAFSA on the Web” (original or renewal) | Electronically to the Department's Central Processing System (CPS) | June 30, 2017 ¹.
| Signature page (if required) | To the address printed on the signature page | September 9, 2017.
Student through an Institution | An electronic FAFSA (original or renewal) | Electronically to the Department's CPS using the “Electronic Data Exchange” (EDE) or “FAA Access to CPS Online” | June 30, 2017 ¹.
Student | A paper original FAFSA | To the address printed on the FAFSA or envelope provided with the form | June 30, 2017.
Student | Electronic corrections to the FAFSA using “Corrections on the Web” | Electronically to the Department's CPS | September 9, 2017 ¹.
| Signature page (if required) | To the address printed on the signature page | September 9, 2017.
Student through an Institution | Electronic corrections to the FAFSA | Electronically to the Department's CPS using the EDE or “FAA Access to CPS Online” | September 9, 2017 ¹.
Student | Paper corrections to the FAFSA using a SAR, including change of mailing and email addresses and change of institutions | To the address printed on the SAR | September 9, 2017.
Student | Change of mailing and email addresses, change of institutions, or requests for a duplicate SAR | To the Federal Student Aid Information Center by calling 1-800-433-3243 | September 9, 2017.
Student | An ISIR with an official EFC calculated by the Department's CPS, except for Parent PLUS Loans and Direct Unsubsidized Loans made to a dependent student under HEA section 479A(a), for which the ISIR does not need to have an official EFC | To the institution | The earlier of: —The student's last date of enrollment for the 2016-2017 award year; or —September 23, 2017 ².
Student through CPS | An ISIR with an official EFC calculated by the Department's CPS, except for Parent PLUS Loans and Direct Unsubsidized Loans made to a dependent student under HEA section 479A(a), for which the ISIR does not need to have an official EFC | To the institution from the Department's CPS | The earlier of: —The student's last date of enrollment for the 2016-2017 award year; or —September 23, 2017 ².
Student Student through CPS | Valid SAR (Pell Grant, FSEOG, FWS, Perkins Loan, and Direct Subsidized Loans) Valid ISIR (Pell Grant, FSEOG, FWS, Perkins Loan, and Direct Subsidized Loans) | To the institution To the institution from the Department's CPS | Except for a student meeting the conditions for a late disbursement under 34 CFR 668.164(g), the earlier of: —The student's last date of enrollment for the 2016-2017 award year; or —September 23, 2017 ².
Student Student through CPS | Valid SAR (Pell Grant, FSEOG, FWS, Perkins Loan, and Direct Subsidized Loans) Valid ISIR (Pell Grant, FSEOG, FWS, Perkins Loan, and Direct Subsidized Loans) | To the institution To the institution from the Department's CPS | For a student receiving a late disbursement under 34 CFR 668.164(g)(4)(i), the earlier of: —180 days after the date of the institution's determination that the student withdrew or otherwise became ineligible; or — September 23, 2017 ².
Student | Verification documents | To the institution | The earlier of: ³ —120 days after the student's last date of enrollment for the 2016-2017 award year; or —September 23, 2017 ².
Institution | Identity and high school completion verification results for a student selected for verification by the Department and placed in Verification Tracking Group V4 or V5 | Electronically to the Department's CPS using “FAA Access to CPS Online” | 60 days following the institution's first request to the student to submit the required V4 or V5 identity and high school completion documentation ⁴.
¹ The deadline for electronic transactions is 11:59 p.m. (Central Time) on the deadline date. Transmissions must be completed and accepted before 12:00 midnight to meet the deadline. If transmissions are started before 12:00 midnight but are not completed until after 12:00 midnight, those transmissions do not meet the deadline. In addition, any transmission submitted on or just prior to the deadline date that is rejected may not be reprocessed because the deadline will have passed by the time the user gets the information notifying him or her of the rejection.
² The date the ISIR/SAR transaction was processed by CPS is considered to be the date the institution received the ISIR or SAR regardless of whether the institution has downloaded the ISIR from its Student Aid Internet Gateway (SAIG) mailbox or when the student submits the SAR to the institution.
³ Although the Secretary has set this deadline date for the submission of verification documents, if corrections are required, deadline dates for submission of paper or electronic corrections and, for Pell Grant applicants and applicants selected for verification, deadline dates for the submission of a valid SAR or valid ISIR to the institution must still be met. An institution may establish an earlier deadline for the submission of verification documents for purposes of the campus-based programs and the Direct Loan Program, but it cannot be later than this deadline date.
⁴ Note that changes to previously submitted Identity Verification Results must be updated within 30 days.

Table B—Pell Grant, Iraq and Afghanistan Service Grant, Direct Loan, and TEACH Grant Programs Deadline Dates for Disbursement Information by Institutions for the 2016-2017 Award Year or Processing Year ¹
Which program? | What is submitted? | Under what circumstances is it submitted? | Where is it submitted? | What are the deadlines for disbursement and for submission of records and information?
Pell Grant, Direct Loan, TEACH Grant, and Iraq and Afghanistan Service Grant programs | An origination or disbursement record | The institution has made or intends to make a disbursement | To the Common Origination and Disbursement (COD) System using the Student Aid Internet Gateway (SAIG); or to the COD System using the COD Web site at: www.cod.ed.gov | The earliest disbursement date is January 29, 2016. The earliest submission date for anticipated disbursement information is March 14, 2016. The earliest submission date for actual disbursement information is March 14, 2016, but no earlier than: (a) 7 calendar days prior to the disbursement date under the advance payment method or the cash monitoring number one payment method; or (b) The disbursement date under the reimbursement or cash monitoring number two payment method
Pell Grant, Iraq and Afghanistan Service Grant, and TEACH Grant programs | An origination or disbursement record | The institution has made a disbursement and will submit records on or before the deadline submission date | To COD using SAIG; or to COD using the COD Web site at: www.cod.ed.gov | The deadline submission date ² is the earlier of: (a) 15 calendar days after the institution makes a disbursement or becomes aware of the need to make an adjustment to previously reported disbursement data, except that records for disbursements made between January 29, 2016 and March 14, 2016 must be submitted no later than March 29, 2016; or (b) September 29, 2017
Direct Loan Program | An origination or disbursement record | The institution has made a disbursement and will submit records on or before the deadline submission date. | To COD using SAIG; or to COD using the COD Web site at: www.cod.ed.gov. | The deadline submission date ² is the earlier of: (a) 15 calendar days after the institution makes a disbursement or becomes aware of the need to make an adjustment to previously reported disbursement data, except that records of disbursements made between January 1, 2016, and March 30, 2016, may be submitted no later than March 29, 2016; or (b) July 31, 2018.
Pell Grant and Iraq and Afghanistan Service Grant programs | A downward adjustment to an origination or disbursement record | It is after the deadline submission date | To COD using SAIG; or to COD using the COD Web site at: www.cod.ed.gov | No later than September 30, 2022.
Pell Grant, Iraq and Afghanistan Service Grant programs | An origination or disbursement record | It is after the deadline submission date and the institution has received approval of its request for an extension to the deadline submission date. Requests for extensions to the established submission deadlines may be made for reasons, including, but not limited to: | Via the COD Web site at: www.cod.ed.gov | The earlier of: (a) When the institution is fully reconciled and is ready to submit all additional data for the program and the award year; or (b) September 30, 2022.
TEACH Grant and Direct Loan programs |  | (a) A program review or initial audit finding under 34 CFR 690.83; (b) A late disbursement under 34 CFR 668.164(g); or (c) Disbursements previously blocked as a result of another institution failing to post a downward adjustment |  | When the institution is fully reconciled and is ready to submit all additional data for the program and the award year.
Pell Grant and Iraq and Afghanistan Service Grant programs | An origination or disbursement record | It is after the deadline submission date and the institution has received approval of its request for an extension to the deadline submission date based on a natural disaster, other unusual circumstances, or an administrative error made by the Department | Via the COD Web site at: www.cod.ed.gov | The earlier of: (a) A date designated by the Secretary after consultation with the institution; or (b) February 1, 2018.
| An origination or disbursement record | It is after the deadline submission date and the institution has received approval of its request for administrative relief to extend the deadline submission date based on a student's reentry to the institution within 180 days after initially withdrawing ³ | Via the COD Web site at: www.cod.ed.gov | The earlier of: (a) 15 days after the student reenrolls; or (b) May 3, 2018.
¹ A COD Processing Year is a period of time in which institutions are permitted to submit Direct Loan records to the COD System that are related to a given award year. For a Direct Loan, the period of time includes loans that have a loan period covering any day in the 2016-2017 award year.
² Transmissions must be completed and accepted before the designated processing time on the deadline submission date. The designated processing time is published annually via an electronic announcement posted to the Information for Financial Aid Professionals Web site (www.ifap.ed.gov). If transmissions are started at the designated time, but are not completed until after the designated time, those transmissions will not meet the deadline. In addition, any transmission submitted on or just prior to the deadline date that is rejected may not be reprocessed because the deadline will have passed by the time the user gets the information notifying him or her of the rejection.
³ Applies only to students enrolled in clock-hour and nonterm credit-hour educational programs.
NOTE: The COD System must accept origination data for a student from an institution before it accepts disbursement information from the institution for that student. Institutions may submit origination and disbursement data for a student in the same transmission. However, if the origination data is rejected, the disbursement data is rejected.

[FR Doc. 2016-07510 Filed 4-1-16; 8:45 am]

BILLING CODE 4000-01-P